DEPARTMENT OF TRANSPORTATION

Federal Aviation Administration

Notice of Intent To Rule on Change in Use of Aeronautical Property at Louisville International Airport, Louisville, KY

AGENCY: Federal Aviation Administration (FAA), DOT.

ACTION: Request for public comment.

SUMMARY: The Federal Aviation Administration is requesting public comment on request by the Louisville Regional Airport Authority to change a portion of airport property from aeronautical to non-aeronautical use at the Louisville International Airport, Louisville, Kentucky. The request consists approximately of 1.773 acres of fee simple release. This action is taken under the provisions of Section 125 of the Wendell H. Ford Aviation Investment Reform Act for the 21st Century (AIR 21).

DATES: Comments must be received on or before December 6, 2010.

ADDRESSES: Documents are available for review at the Louisville International Airport, 600 Terminal Drive, Louisville, KY 40209 and the FAA Memphis Airports District Office, 2862 Business Park Drive, Building G, Memphis, TN 38118. Written comments on the Sponsor's request must be delivered or mailed to: Mr. Phillip J. Braden, Manager, Memphis Airports District Office, 2862 Business Park Drive, Building G, Memphis, TN 38118.

In addition, a copy of any comments submitted to the FAA must be mailed or delivered to Mr. Charles T. Millers, Executive Director, Louisville Regional Airport Authority, P.O. Box 9129, Louisville, KY 40209.

FOR FURTHER INFORMATION CONTACT: Mr. Tommy L. Dupree, Team Lead/Civil Engineer, Federal Aviation Administration, Memphis Airports District Office, 2862 Business Park Drive, Building G, Memphis, TN 38118. The application may be reviewed in person at this same location, by appointment.

SUPPLEMENTARY INFORMATION: The FAA proposes to rule and invites public comment on the request to release property at the Louisville International Airport, Louisville, KY. Under the provisions of AIR 21 (49 U.S.C. 47107(h)(2)).

On October 28, 2010, the FAA determined that the request to release property at Louisville International Airport meets the procedural requirements of the Federal Aviation Administration. The FAA may approve the request, in whole or in part, no later than December 6, 2010.

The following is a brief overview of the request:

The Louisville Regional Airport Authority is proposing the release of approximately 1.773 acres along various locations on the western boundary of Louisville International Airport that are adjacent to Crittenden Drive. This release is for compliance by the authority with prior commitments between the Louisville Regional Airport Authority and The Commonwealth of Kentucky for the previous relocation of Crittenden Drive associated with the authority's Runway 17R-35L construction at Louisville International Airport.

Any person may inspect, by appointment, the request in person at the FAA office listed above under FOR FURTHER INFORMATION CONTACT.

In addition, any person may, upon appointment and request, inspect the request, notice and other documents germane to the request in person at the Tennessee Department of Transportation, Division of Aeronautics.

Issued in Memphis, TN, on October 28, 2010.
Tommy L. Dupree,
Acting Manager, Memphis Airports District Office, Southern Region.

[FR Doc. 2010-27893 Filed 11-3-10; 8:45 am]

BILLING CODE P